DEPARTMENT OF THE INTERIOR

National Park Service

[NPS-WASO-NAGPRA-NPS0033739; PPWOCRADN0-PCU00RP14.R50000]

Notice of Intent To Repatriate Cultural Items: Putnam Museum and Science Center, Davenport, IA

AGENCY: National Park Service, Interior.

ACTION: Notice.

SUMMARY: The Putnam Museum and Science Center, in consultation with the appropriate Indian Tribes or Native Hawaiian organizations, has determined that the cultural items listed in this notice meet the definition of unassociated funerary objects. Lineal descendants or representatives of any Indian Tribe or Native Hawaiian organization not identified in this notice that wish to claim these cultural items should submit a written request to the Putnam Museum and Science Center. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Putnam Museum and Science Center at the address in this notice by May 23, 2022.

FOR FURTHER INFORMATION CONTACT: Christina Kastell, Putnam Museum and Science Center, 1717 W 12th Street, Davenport, IA 52804, telephone (563) 336-7293, email ckastell@putnam.org.

SUPPLEMENTARY INFORMATION: Notice is here given in accordance with the Native American Graves Protection and Repatriation Act (NAGPRA), 25 U.S.C. 3005, of the intent to repatriate cultural items under the control of the Putnam Museum and Science Center, Davenport, IA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Sometime in the 1880s, six cultural items were removed from the Mississippi Valley in AL and MS. Captain W.P. Hall excavated these items. Subsequently, Miss Elizabeth Duncan Putnam donated these items to the museum. The six unassociated funerary objects are two Bell Plain Bowls, one miniature bowl, one animal effigy sherd, one ear plug, and one pipe fragment.

These items have been determined to derive from Mississippian burial mounds in AL and MS. Based on this geographical and archeological information, they are connected to The Choctaw Nation of Oklahoma.

Determinations Made by the Putnam Museum and Science Center

Officials of the Putnam Museum and Science Center have determined that:

• Pursuant to 25 U.S.C. 3001(3)(B), the six cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and The Choctaw Nation of Oklahoma.

Additional Requestors and Disposition

Lineal descendants or representatives of any Indian Tribe or Native Hawaiian organization not identified in this notice that wish to claim these cultural items should submit a written request with information in support of the claim to Christina Kastell, Putnam Museum and Science Center, 1717 W 12th Street, Davenport, IA 52804, telephone (563) 336-7293, email ckastell@putnam.org, by May 23, 2022. After that date, if no additional claimants have come forward, transfer of control of the unassociated funerary objects to The Choctaw Nation of Oklahoma may proceed.

The Putnam Museum and Science Center is responsible for notifying The Choctaw Nation of Oklahoma that this notice has been published.

Dated: April 13, 2022.
Melanie O'Brien,
Manager, National NAGPRA Program.

[FR Doc. 2022-08601 Filed 4-21-22; 8:45 am]

BILLING CODE 4312-52-P